DEPARTMENT OF HEALTH AND HUMAN SERVICES

Office of the Secretary

Office of The Assistant Secretary for Planning and Evaluation; Statement of Organization, Functions, and Delegations of Authority

Part A (Office of the Secretary), Statement of Organization, Functions, and Delegations of Authority of the Department of Health and Human Services (HHS) is being amended at Chapter AE, Office of the Assistant Secretary for Planning and Evaluation (ASPE), as last amended at 76 FR 59399 on September 26, 2011. This notice better aligns office titles with program activities, consolidates key functions and clearly delineates ASPE's portfolio within three of its five components; Science and Data Policy (AEJ), Human Service Policy (AES), and Disability, Aging, and Long-Term Care Policy (AEW):

I. Under Section AE.20 Functions, delete the following sections in their entirety.

A. Division of Data Policy (AEJ1)

B. Division of Science Policy (AEJ2)

C. Division of Economic Support for Families (AES)

D. Office of Disability, Aging and Long-Term Care Policy (AEW)

E. Division of Long-Term Care Policy (AEW3)

F. Division of Behavioral Health and Intellectual Disabilities (AEW4)

II. Under Section AE.20 Functions, insert the following sections:

A. The Division of Evidence, Evaluation, and Data Policy (AEJ1) is responsible for evidence and evaluation based policy activities in addition to data and information privacy policy, health information technology and interoperability and data standards; and convenes the Evaluation and Evidence Council to work with stakeholders to implement statutory evidence-building plan requirements.

B. The Division of Science and Public Health Policy (AEJ2) is responsible for supporting Health and Human Services science and public health agencies in areas related to policy coordination, long-range planning, legislative development, economic, program, and regulatory analysis.

C. The Division of Strategic Planning (AEJ3) is responsible for enterprise-wide reporting, implementation, and development of strategic plans related to critical health, public health, and human services programs.

D. The Division of Family and Community Policy (AES1) is responsible for human services policy and programs to improve the wellbeing and economic status of families and communities including economic mobility; social capital; program alignment and coordination at the federal, state, and local levels refugee resettlement; fatherhood; marriage; domestic violence issues; and promoting self-sufficiency and employment including the TANF and Child Support programs.

The Division of Children and Youth Policy (AES2) is responsible for promoting healthy development of children and youth including strategic coordination of national youth policy and positive youth development, child welfare and child protection, and child care and early childhood education.

The Division of Data and Technical Analysis (AES3) is responsible for providing data analytic capacity for policy development and program improvement on cross-cutting human services policy through data analysis, modeling, cost and impact analyses, and the enhancement of national, state, and local data sources for analyzing and managing issues. The division also is responsible for the annual update of the HHS poverty guidelines, and also maintains cognizance of data collection activities of the Federal statistical system and coordinates with the Office of Science and Data Policy (AEJ), as appropriate.

E. The Office of Behavioral Health, Disability, and Aging Policy (AEW) is responsible for the development, coordination, research and evaluation of HHS policies and programs that support the independence, productivity, health and wellbeing of children, working age adults, and older adults with mental health and substance use disorders (i.e. behavioral health) and other disabilities.

The Division of Disability and Aging Policy (AEW1) is responsible for the policy development, coordination, research and evaluation of federal policies and programs that aim to address the needs of people with disabilities and older Americans. Areas of focus include the interaction between the health, disability, and economic well-being of persons of all ages with disabilities including the prevalence of disability and disabling conditions; describing the socio-demographic characteristics of relevant populations; determining service use, income, employment, and program participation patterns; and coordinating the development of disability and aging data and related policy.

F. The Division of Long-Term Services and Supports Policy (AEW3) is responsible for policy development and analysis related to disability, aging, and long-term services and supports components of Medicare, Medicaid, nursing facility services, community residential, personal, and home and health rehabilitation, and the integration of acute and post-acute care services, including for individuals dually-eligible for Medicare and Medicaid.

G. The Division of Behavioral Health Policy (AEW4) is responsible for the analysis, coordination, and research and evaluation of policies related to behavioral, mental, and substance use disorders. The division is the focal point for policy development and analysis related to the financing, access/delivery, organization, and quality of services for people with behavioral, mental, and substance use disorders, including those supported or financed by Medicaid, Medicare, and SAMHSA.

III. Delegations of Authority: All delegations and redelegations of authority made to officials and employees of affected organizational components will continue in them or their successors pending further redelegations, provided they are consistent with this reorganization.

Authority: 44 U.S.C. 3101.

Scott W. Rowell,
Assistant Secretary for Administration.

[FR Doc. 2019-18784 Filed 8-29-19; 8:45 am]

BILLING CODE 4150-05-P